SECURITIES AND EXCHANGE COMMISSION

Sunshine Act Meeting

Notice is hereby given, pursuant to the provisions of the Government in the Sunshine Act, Pub. L. 94-409, that the Securities and Exchange Commission will hold the following meetings during the week of September 25, 2000.

Closed meetings will be held on Wednesday, September 27, 2000 at 11:00 a.m. and Thursday, September 28, 2000 at 3:00 p.m. An open meeting will be held on Thursday, September 28, 2000 at 2:00 p.m. in Room 1C30.

Commissioners, Counsel to the Commissioners, the Secretary to the Commission, and recording secretaries will attend the closed meetings. Certain staff member who have an interest in the matters may also be present.

The General Counsel of the Commission, or his designee, has certified that, in his opinion, one or more of the exemptions set forth in 5 U.S.C. 552b(c)(4), (8), (9)(A) and (10) and 17 CFR 200.402(a)(4), (8), (9)(A) and (10), permit consideration for the scheduled matters at the closed meeting.

The subject matters of the closed meeting scheduled Wednesday, September 27, 2000 will be:

Institution and settlement of injunctive actions; and

Institution and settlement of administrative proceedings and enforcement nature.

The subject matter of the open meeting scheduled for Thursday, September 28, 2000 will be:

The Commission will hear oral argument on an appeal by the Division of Enforcement and the Office of the Chief Accountant from an initial decision of an administrative law judge in the matter of KPMG Peat Marwick LLP (“Peat Marwick”).

This case involves allegations that certain circumstances impaired Peat Marwick's independence from an audit client, Porta Systems Corp. (“PORTA”). The law judge found that only one of these circumstances—Peat Marwick's loan to PORTA's president—impaired Peat Marwick's independence. Because generally accepted auditing standards (GAAS) require that auditors be independent from audit clients, the law judge concluded that Peat Marwick violated the requirement in Rule 2-02 of Regulation S-X that an accountant's report accurately “state whether the audit was made in accordance” with GAAS. The law judge also concluded that, because Peat Marwick was not independent at the time it certified financial statements filed by PORTA as part of its 1995 annual report, Peat Marwick caused PORTA to violate Section 13(a) of the Securities Exchange Act of 1934 and Rule 13a-1 thereunder. The law judge did not conclude, however, that Peat Marwick had engaged in improper professional conduct within the meaning of Rule 102(e) of the Commission's Rules of Practice. The law judge dismissed the proceeding insofar as it alleged that Peat Marwick engaged in improper professional conduct under Rule 102(e) and denied the Division's request for entry of a cease and desist order against Peat Marwick under Section 21C of the Exchange Act.

Among the issues likely to be argued are the following:

1. Whether Peat Marwick's loan to PORTA's president was the only independence impairing circumstance involved in this case;

2. Whether Peat Marwick acted recklessly with respect to any independence impairing circumstances involved in this case; and

3. Whether, and what, sanctions are appropriate remedies in this case.

For further information, contact Rada L. Potts at (202) 942-0961.

The subject matter of the closed meeting scheduled for Thursday, September 28, 2000 will be:

Post argument discussion

At times, changes in Commission priorities require alterations in the scheduling of meeting items. For further information and to ascertain what, if any, matters have been added, deleted or postponed, please contact:

The Office of the Secretary at (202) 942-7070.

Dated: September 20, 2000.
Jonathan G. Katz,
Secretary.

[FR Doc. 00-24590 Filed 9-20-00; 3:48 pm]

BILLING CODE 8010-01-M